DEPARTMENT OF THE INTERIOR

Fish and Wildlife Service

Draft Comprehensive Conservation Plan and Environmental Assessment for Sherburne National Wildlife Refuge, Sherburne County, MN

AGENCY: Fish and Wildlife Service, Interior.

ACTION: Notice of availability.

SUMMARY: The U.S. Fish and Wildlife Service announces that the Draft Comprehensive Conservation Plan (CCP) and Environmental Assessment (EA) is available for Sherburne NWR, Minnesota.

The CCP was prepared pursuant to the National Wildlife Refuge System Administration Act of 1966, as amended by the National Wildlife Refuge System Improvement Act of 1997, and the National Environmental Policy Act of 1969. Goals and objectives in the CCP describe how the agency intends to manage the refuge over the next 15 years.

DATES: Comments on the Draft CCP/EA must be received on or before September 2, 2005.

ADDRESSES: Copies of the Draft CCP are available on compact disk or hard copy, you may obtain a copy by writing to: U.S. Fish and Wildlife Service, Division of Conservation Planning, Bishop Henry Whipple Federal Building, 1 Federal Drive, Fort Snelling, Minnesota 55111 or you may access and download a copy via the planning Web site at http://www.fws.gov/midwest/planning/sherburne/index.html.

All comments should be addressed to Sherburne National Wildlife Refuge, Attention: CCP Comment, 17076 293rd Avenue, Zimmerman, MN 55398, or direct e-mail to r3planning@fws.gov. Comments may also be submitted through the Service's regional Web site at http://www.fws.gov/midwest/planning/.

FOR FURTHER INFORMATION CONTACT: Anne Sittauer at (763) 389-3323 extension 11.

SUPPLEMENTARY INFORMATION: The 30,575-acre Sherburne National Wildlife is located in central Minnesota at the juncture of the northern boreal forest, the eastern deciduous forest, and the tallgrass prairie. It was established in 1965 under the general authority of the Migratory Bird Conservation Act of 1929 (16 U.S.C. 715d). The Act states that lands may be acquired “ * * * for use as an inviolate sanctuary, or for any other management purpose, for migratory birds.” The Refuge attracts over 230 species of birds each year to its diverse habitats. Of these, over 120 are known to nest in the area. The Refuge wetlands provide habitat for about 30 nesting pairs of Greater Sandhill Cranes and serve as a staging area for thousands of cranes during fall migration. During fall and spring migration, the Refuge wetlands also support thousands of waterfowl.

The EA evaluates five different approaches, or alternatives, to future management of the Sherburne NWR. The plan also identifies wildlife-dependent recreational opportunities available to the public including hunting, fishing, wildlife observation and photography, and environmental education and interpretation. The preferred alternative calls for: (1) Changes in the water impoundment system and upland management to create a diversity of wetland types and historic upland plant communities; (2) increased opportunities for all types of wildlife-dependent recreation; and (3) outreach, private lands, and partnership activities that will emphasize natural processes, including native habitat restoration and conservation, to form ecologically functioning connections to and from the Refuge.

The National Wildlife Refuge System Administration Act of 1966, as amended by the National Wildlife Refuge System Improvement Act of 1997 (16 U.S.C. 668dd-668ee et seq.) requires the Service to develop a CCP for each National Wildlife Refuge. The purpose in developing a CCP is to provide refuge managers with a 15-year strategy for achieving refuge purposes and contributing toward the mission of the National Wildlife Refuge System, consistent with sound principles of fish and wildlife management, conservation, legal mandates, and Service policies. In addition to outlining broad management direction for conserving wildlife and their habitats, the CCP identifies wildlife-dependent recreational opportunities available to the public, including opportunities for hunting, fishing, wildlife observation and photography, and environmental education and interpretation. We will review and update these CCPs at least every 15 years in accordance with the National Wildlife Refuge System Administration Act of 1966, as amended by the National Wildlife Refuge System Improvement Act of 1997, and the National Environmental Policy Act of 1969 (42 U.S.C. 4321-4370d).

Dated: February 25, 2005.
Charles M. Wooley,
Acting Regional Director, U.S. Fish and Wildlife Service, Ft. Snelling, Minnesota.

[FR Doc. 05-14047 Filed 7-15-05; 8:45 am]

BILLING CODE 4310-55-P